ENVIRONMENTAL PROTECTION AGENCY

[OPP-30500; FRL-6742-1]

Pesticide Products; Registration Applications

AGENCY: Environmental Protection Agency (EPA).

ACTION: Notice.

SUMMARY: This notice announces receipt of applications to register pesticide products containing active ingredients not included in any previously registered products and a pesticide product involving a changed use pattern pursuant to the provisions of section 3(c)(4) of the Federal Insecticide, Fungicide, and Rodenticide Act (FIFRA), as amended.

DATES: Written comments, identified by the docket control number OPP-30500, must be received on or before November 3, 2000.

ADDRESSES: Comments may be submitted by mail, electronically, or in person. Please follow the detailed instructions for each method as provided in Unit I. of the SUPPLEMENTARY INFORMATION. To ensure proper receipt by EPA, it is imperative that you identify docket control number OPP-30500 in the subject line on the first page of your response.

FOR FURTHER INFORMATION CONTACT: The Regulatory Action Leader, Biopesticides and Pollution Prevention Division (7511C), Office of Pesticide Programs, Environmental Protection Agency, listed in the table below:

Regulatory Action Leader | Telephone number/e-mail address | Mailing address | File symbol/EPA reg. #
Driss Benmhend | 703-308-9525; e-mail: benmhend.driss@epa.gov | 1200 Pennsylvania Ave., NW., Washington, DC 20460 | 71297-1
Sharlene R. Matten | 703-605-0514; e-mail: matten.sharlene@epa.gov | Do. | 69697-R and 69697-E
Alan Reynolds | 703-605-0515; e-mail: reynolds.alan@epa.gov | Do. | 70571-E, 73314-E and 73314-R

SUPPLEMENTARY INFORMATION:

I. General Information

A. Does this Action Apply to Me?

You may be affected by this action if you are an agricultural producer, food manufacturer, or pesticide manufacturer. Potentially affected categories and entities may include, but are not limited to:

Categories | NAICS codes | Examples of potentially affected entities
Industry | 111 112 311 32532 | Crop production Animal production Food manufacturing Pesticide manufacturing

This listing is not intended to be exhaustive, but rather provides a guide for readers regarding entities likely to be affected by this action. Other types of entities not listed in the table could also be affected. The North American Industrial Classification System (NAICS) codes have been provided to assist you and others in determining whether or not this action might apply to certain entities. If you have questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations” “Regulations and Proposed Rules,” and then look up the entry for this document under the “Federal Register—Environmental Documents.” You can also go directly to the Federal Register listings at http://www.epa.gov/fedrgstr/.

2. In person. The Agency has established an official record for this action under docket control number OPP-30500. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket control number OPP-30500 in the subject line on the first page of your response.

1. By mail. Submit your comments to: Public Information and Records Integrity Branch (PIRIB), Information Resources and Services Division (7502C), Office of Pesticide Programs (OPP), Environmental Protection Agency, 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Highway, Arlington, VA. The PIRIB is open from 8:30 a.m. to 4 p.m., Monday through Friday, excluding legal holidays. The PIRIB telephone number is (703) 305-5805.

3. Electronically. You may submit your comments electronically by e-mail to: “opp-docket@epa.gov,” or you can submit a computer disk as described above. Do not submit any information electronically that you consider to be CBI. Avoid the use of special characters and any form of encryption. Electronic submissions will be accepted in WordPerfect 6.1/8.0 or ASCII file format. All comments in electronic form must be identified by docket control number OPP-30500. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person identified under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the registration activity.

7. Make sure to submit your comments by the deadline in this notice.

8. To ensure proper receipt by EPA, be sure to identify the docket control number assigned to this action in the subject line on the first page of your response. You may also provide the name, date, and Federal Register citation.

II. Registration Application

EPA received applications as follows to register pesticide products containing active ingredients not included in any previously registered products or registered active ingredients with a significant new use pursuant to the provisions of section 3(c)(4) of FIFRA. Notice of receipt of these applications does not imply a decision by the Agency on the applications.

A. Products Containing Active Ingredients Not Included in Any Previously Registered Products

1. File Symbol: 69697-R and 69697-E. Applicant: Jellinek, Schwartz & Connolly, Inc., 1525 Wilson Boulevard, Suite 600, Arlington, VA 22209 for Plant Products Co. Ltd., 314 Orenda Road, Brampton, Ontario, Canada. Product Name: Sporodex WP. Biological fungicide. Active ingredient: Pseudozyma flocculosa at 2%. Proposed classification/Use: Control powdery mildew disease on greenhouse-grown cut roses and English seedless cucumber.

2. File Symbol: 70571-E. Applicant: Encore Technologies LLC, 111 Cheshire Lane, Minnetonka, MN 55305. Product Name: Mallet WP. Herbicide. Active ingredient: Colletotrichum gloeosporioides f. sp. malvae at 8.0%. Proposed classification/Use: Post-emergent control of the weeds round-leaved mallow and small-flowered mallow.

3. File Symbols: 73314-R and 73314-E. Applicant: Natural Industries, Inc., 6223 Theall Road, Houston, TX 77066. Product Name: Actinovate Soluble and Actinovate Iron Fulvate. Fungicide. Active ingredient: Streptomyces lydicus WYEC 108 at 1.0%. Proposed classification/Use: Control of soil borne plant root rot and damping-off fungi.

B. Product Containing the Active Ingredient (1-methylcyclopropene) Involving a Changed Use Pattern

EPA Registration Number: 71297-1. Applicant: BioTechnologies for Horticulture, Inc., 101 Independence Mall West, Philadelphia, PA 19106-2399. Product name: EthylBloc®. The product contains the already registered active ingredient 1-methylcyclopropene and is intended for indoor use as a plant growth regulator on post-harvest fruits and vegetables for the purpose of inhibiting the effects of ethylene on food commodities. This is a significant new use.

List of Subjects

Environmental protection, Pesticides and pest.

Dated: September 18, 2000.
Janet L. Andersen,
Director, Biopesticides and Pollution Prevention Division, Office of Pesticide Programs.

[FR Doc. 00-25229 Filed 10-3-00; 8:45 am]

BILLING CODE 6560-50-F